DEPARTMENT OF COMMERCE

National Oceanic and Atmospheric Administration

[RTID 0648-XF384]

South Atlantic Fishery Management Council—Public Meetings

AGENCY: National Marine Fisheries Service, National Oceanic and Atmospheric Administration, Commerce.

ACTION: Notice of a public meeting.

SUMMARY: The South Atlantic Fishery Management Council will hold a meeting of the Law Enforcement Advisory Panel on January 20 and 21, 2026.

DATES: The meeting will be held from 1 p.m. until 5 p.m. EDT January 20, 2026 and 9 a.m. until 4 p.m. January 21, 2026.

ADDRESSES:

Council address: South Atlantic Fishery Management Council, 4055 Faber Place Drive, Suite 201, N Charleston, SC 29405.

Meeting address: The meeting will be held at the Drury Plaza Hotel North Charleston; 2934 W Montague Ave., North Charleston, SC 29418; phone: (843) 938-1503.

FOR FURTHER INFORMATION CONTACT: Myra Brouwer, Deputy Director for Management, SAFMC; phone 843/302-8436; email: myra.brouwer@safmc.net.

SUPPLEMENTARY INFORMATION: The meeting will also be available via webinar. Registration is required. Webinar registration, an online public comment form, and briefing book materials will be available 2 weeks prior to the meetings at: https://safmc.net/advisory-panel-meetings/.

The Law Enforcement Advisory Panel (AP) will provide input on several of the Council's developing amendments and provide feedback on enforcement and compliance of Spawning Special Management Zones. The AP will also discuss how to clarify what constitutes the end of a commercial fishing trip as it pertains to enforcement and the potential for possible separate regulations for South Atlantic headboats. The AP will receive updates on Council programs and initiatives, such as citizen science, and provide updates on Joint Enforcement Agreement priorities and descending device compliance. The AP will discuss other items as needed.

Special Accommodations

These meetings are physically accessible to people with disabilities. Requests for auxiliary aids should be directed to the council office (see ADDRESSES) 5 days prior to the meeting.

Note: The times and sequence specified in this agenda are subject to change.

Authority: 16 U.S.C. 1801 et seq.

Dated: December 11, 2025.
Rey Israel Marquez,
Acting Deputy Director, Office of Sustainable Fisheries, National Marine Fisheries Service.

[FR Doc. 2025-22821 Filed 12-12-25; 8:45 am]

BILLING CODE 3510-22-P